DEPARTMENT OF COMMERCE

International Trade Administration

[A-821-818]

Notice of Termination of Suspension Agreement: Urea Ammonium Nitrate Solutions From the Russian Federation

AGENCY: Import Administration, International Trade Administration, Department of Commerce.

ACTION: Notice of termination of suspension agreement.

EFFECTIVE DATE: April 29, 2003.

SUMMARY: On April 16, 2003, the United States International Trade Commission (ITC) published its negative final determination in this case. Therefore, in accordance with U.S. law, both the investigation and the agreement suspending the investigation, were terminated as of April 16, 2003.

FOR FURTHER INFORMATION CONTACT: Paige Rivas or Tom Futtner at (202) 482-0651 or (202) 482-3814, respectively; Office of AD/CVD Enforcement 2, Import Administration, International Trade Administration, U.S. Department of Commerce, 14th Street & Constitution Avenue, NW., Washington, DC 20230.

SUPPLEMENTARY INFORMATION:

Background

On May 9, 2002, the Department of Commerce (the Department) initiated antidumping duty investigations to determine whether imports of urea ammonium nitrate solutions (UANS) from Lithuania, Belarus, Russia, and Ukraine are being, or are likely to be, sold in the United States at less than fair value (LTFV). See Initiation of Antidumping Investigations: Urea Ammonium Nitrate Solutions from Belarus, Lithuania, the Russian Federation, and Ukraine, 67 FR 35492 (May 20, 2002). On June 4, 2002, the ITC preliminarily determined that there was a reasonable indication that an industry in the United States was materially injured or threatened with material injury by reason of imports of UANS from Belarus, Russia and Ukraine. See Urea Ammonium Nitrate Solution from Belarus, Lithuania, the Russian Federation and Ukraine, 67 FR 39439 (June 7, 2002). On October 3, 2002, the Department published its preliminary determination that UANS was being, or was likely to be, sold in the United States at LTFV. See Notice of Preliminary Determination of Sales at Less Than Fair Value: Urea Ammonium Nitrate Solutions from the Russian Federation, 67 FR 62008.

On February 19, 2003, the Department signed a suspension agreement with three producers accounting for substantially all of the U.S. imports of UANS from Russia (JSC Nevinnomysskij Azot, JSC Kuybyshevazot/Togliatti, and S.P. Novolon/Novomoskovsk). See Suspension of Antidumping Duty Investigation: Urea Ammonium Nitrate Solutions From the Russian Federation, 68 FR 9980 (March 3, 2003). On February 20, 2003, we received a request from the petitioner that we continue the investigation. On March 3, 2003, Department published its final determination that UANS was being, or was likely to be, sold in the United States at LTFV. Notice of Final Determination of Sales at Less Than Fair Value: Urea Ammonium Nitrate Solutions from the Russian Federation, 68 FR 9977.

Termination of Suspension Agreement

On April 10, 2003, the ITC notified the Department of its finding that the relevant U.S. industry was neither materially injured by, nor threatened with material injury by imports of UANS from Russia. On April 16, 2003, the ITC published its negative final determination in this case in the Federal Register (68 FR 18673). Therefore, in accordance with U.S. law, both the investigation and the agreement suspending the investigation, were terminated as of April 16, 2003. See 19 CFR 351.207(d) and (e).

Liquidation

The terms of the suspension agreement called for the liquidation of entries without regard to antidumping duties. The Department will advise the U.S. Bureau of Customs and Border Protection (BCBP) of the termination of the agreement and will instruct the BCBP to refund all estimated antidumping duties deposited on all unliquidated entries of UANS from Russia and release any bonds or other security.

We are issuing and publishing this notice in accordance with sections 734(f)(3)(A) and 735(c)(2)-(3) and (d) of the Tariff Act of 1930, as amended, and with 19 CFR 351.208(g) and (h).

Dated: April 23, 2003.
Holly A. Kuga,
Acting Deputy Assistant Secretary for Import Administration, Group II.

[FR Doc. 03-10550 Filed 4-28-03; 8:45 am]

BILLING CODE 3510-DS-P